DEPARTMENT OF COMMERCE

Foreign-Trade Zones Board

[Order No. 1163]

Expansion of Foreign-Trade Zone 20, Hampton Roads, VA, Area

Pursuant to its authority under the Foreign-Trade Zones Act of June 18, 1934, as amended (19 U.S.C. 81a-81u), the Foreign-Trade Zones (FTZ) Board (the Board) adopts the following Order:

Whereas, the Virginia Port Authority, grantee of Foreign-Trade Zone 20, submitted an application to the Board for authority to expand FTZ 20 at the Battlefield Lakes Technical Center (Site 16) and Butts Station Commerce Center (Site 17) in Chesapeake, Virginia, and at the Port of Cape Charles Sustainable Technologies Industrial Park (Site 18) in Northampton County, Virginia, adjacent to the Norfolk-Newport News Customs port of entry (FTZ Docket 58-2000; filed 11/15/00);

Whereas, notice inviting public comment was given in the Federal Register (65 FR 70694, 11/27/00) and the application has been processed pursuant to the FTZ Act and the Board's regulations; and,

Whereas, the Board adopts the findings and recommendations of the examiner's report, and finds that the requirements of the FTZ Act and Board's regulations are satisfied, and that the proposal is in the public interest;

Now, Therefore, the Board hereby orders:

The application to expand FTZ 20 is approved, subject to the Act and the Board's regulations, including Section 400.28, and further subject to the Board's standard 2,000-acre activation limit for the overall zone project.

Signed at Washington, DC, this 5th day of April 2001.
Timothy J. Hauser,
Acting Under Secretary for International Trade, Alternate Chairman, Foreign-Trade Zones Board.

[FR Doc. 01-9856 Filed 4-19-01; 8:45 am]

BILLING CODE 3510-DS-P